CONSUMER PRODUCT SAFETY COMMISSION

Sunshine Act Meeting Notice

Time and Place: Wednesday, April 5, 2017, 10:00 a.m.-12:00 p.m.

Place: Hearing Room 420, Bethesda Towers, 4330 East-West Highway, Bethesda, Maryland.

Status: Commission Meeting—Open to the Public.

Matter to be Considered:

Decisional Matter: Safety Standard Addressing Blade-Contact Injuries on Table Saws—Notice of Proposed Rulemaking.

A live webcast of the Meeting can be viewed at www.cpsc.gov/live.

Contact Person for More Information: Todd A. Stevenson, Office of the Secretary, U.S. Consumer Product Safety Commission, 4330 East-West Highway, Bethesda, MD 20814, (301) 504-7923.

Dated: March 28, 2017.
Todd A. Stevenson,
Secretary.

[FR Doc. 2017-06497 Filed 3-29-17; 4:15 pm]

BILLING CODE 6355-01-P